DEPARTMENT OF ENERGY

Federal Energy Regulatory Commission

[Docket Nos. ER06-615-000; ER07-1257-000; ER08-1113-000; ER08-1178-000; OA08-62-000]

California Independent System Operator Corporation; Notice of FERC Staff Attendance

March 27, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

April 1, 2009—Congestion Revenue Rights Settlements and Market Clearing User Group.

April 8, 2009—Congestion Revenue Rights Settlements and Market Clearing User Group. Demand Response Barriers Study.

April 14, 2009 2010—Local Capacity Technical Study Meeting.

Sponsored by the CAISO, the teleconferences and meetings are open to all market participants, and staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-7440 Filed 4-1-09; 8:45 am]

BILLING CODE 6717-01-P